DEPARTMENT OF ENERGY

Federal Energy Regulatory Commission

[Docket No. RP01-99-000]

Southern Natural Gas Company; Notice of Proposed Changes to FERC Gas Tariff

November 20, 2000.

Take notice that on November 15, 2000, Southern Natural Gas Company (Southern) tendered for filing as part of its FERC Gas Tariff, Seventh Revised Volume No. 1, the following tariff sheets to become effective December 15, 2000:

2nd Revised Sheet No. 78

2nd Revised Sheet No. 92

Southern states that the purpose of this filing is to follow-through with its proposal set forth in its Order No. 637 Compliance Filing in Docket No. RP00-476 in which Southern agreed to allow intraday storage transfers. Southern proposes to allow shippers under Rate Schedule ISS and CSS to request a transfer at any time prior to the nomination deadline applicable to the request for transfer.

Southern states that copies of the filing will be served upon its shippers and interested state commissions.

Any person desiring to be heard or to protest said filing should file a motion to intervene or a protest with the Federal Energy Regulatory Commission, 888 First Street, NE, Washington, DC 20426, in accordance with Sections 385.214 or 385.211 of the Commission's Rules and Regulations. All such motion or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at ­http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30070 Filed 11-24-00; 8:45 am]

BILLING CODE 6717-01-M